DEPARTMENT OF EDUCATION

Reopening; Applications for New Awards; Education Innovation and Research (EIR) Program—Early-Phase Grants

AGENCY: Office of Elementary and Secondary Education, Department of Education.

ACTION: Notice.

SUMMARY: On May 23, 2023, we published in the Federal Register a notice inviting applications (NIA) for fiscal year (FY) 2023 for the EIR program—Early-phase Grants competition, Assistance Listing Number 84.411C (Early-phase Grants). The NIA established a deadline date of August 1, 2023, for the transmittal of applications. For eligible applicants located in the New York counties of Clinton, Dutchess, Essex, Hamilton, Ontario, Orange, Putnam, and Rockland; the Oklahoma counties of Beaver, Cimarron, Comanche, Cotton, Craig, Creek, Delaware, Harper, Jefferson, Love, Major, Mayes, McCurtain, Payne, Pushmataha, Rogers, Stephens, Tulsa, and Woodward; and the State of Vermont, which are covered by major disaster declarations issued by the President, this notice reopens the competition until August 16, 2023 and extends the date of intergovernmental review until October 16, 2023.

DATES:

Deadline for Transmittal of Applications for Affected Applicants: August 16, 2023.

Deadline for Intergovernmental Review: October 16, 2023.

FOR FURTHER INFORMATION CONTACT: Yvonne Crockett, U.S. Department of Education, 400 Maryland Avenue SW, Room 3E344, Washington, DC 20202-5900. Telephone: (202) 453-7122. Email: eir@ed.gov.

If you are deaf, hard of hearing, or have a speech disability and wish to access telecommunications relay services, please dial 7-1-1.

SUPPLEMENTARY INFORMATION: On May 23, 2023, we published the NIA in the Federal Register (88 FR 33126) for Early-phase Grants. Under the NIA, applications were due on August 1, 2023. We are reopening this competition to allow affected applicants (as defined under Eligibility) more time—until August 16, 2023—to prepare and submit their applications.

Eligibility: The extended application deadline only applies to eligible applicants under the Early-phase Grants competition that are affected applicants. An eligible applicant for this competition is defined in the NIA. To qualify as an affected applicant, the applicant must have a mailing address that is located in the federally declared disaster areas and must provide appropriate supporting documentation, if requested.

The applicable federally declared disaster area under this declaration is the area in which assistance to individuals or public assistance has been authorized under FEMA's disaster declaration for New York Severe Storms and Flooding (DR-4723-NY), Vermont Severe Storms, Flooding, Landslides, and Mudslides (DR-4720-VT), and Oklahoma Severe Storms, Straight-line Winds, and Tornadoes (DR-4721-OK). See the disaster declarations at: https://www.fema.gov/disaster/4723, https://www.fema.gov/disaster/4720, and https://www.fema.gov/disaster/4721.

Affected applicants that have already timely submitted applications under the FY 2023 Early-phase Grants competition may resubmit applications on or before the extended application deadline of August 16, 2023, but are not required to do so. If a new application is not submitted, the Department will use the application that was submitted by the original deadline. If a new application is submitted, the Department will consider the application that is last submitted and timely received by 11:59:59 p.m., Eastern Time, on August 16, 2023.

Any application submitted by an affected applicant under the extended deadline must contain evidence (e.g., the applicant organization mailing address) that the applicant is located in one of the applicable federally declared disaster areas and, if requested, the applicant must provide appropriate supporting documentation.

The application period is not reopened for all applicants. Applications from applicants that are not affected applicants, as defined above, will not be accepted past the August 1, 2023 deadline.

Note: All information in the NIA for this competition remains the same, except for the extended deadline for the transmittal of applications for affected applicants and the deadline for intergovernmental review.

Program Authority: 20 U.S.C. 7261.

Accessible Format: On request to the program contact person listed under FOR FURTHER INFORMATION CONTACT, individuals with disabilities can obtain this document, the NIA, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Adam Schott,
Deputy Assistant Secretary for Policy and Programs, Delegated the Authority to Perform the Functions and Duties of the Assistant Secretary, Office of Elementary and Secondary Education.

[FR Doc. 2023-16684 Filed 8-3-23; 8:45 am]

BILLING CODE 4000-01-P